DEPARTMENT OF TRANSPORTATION

Federal Aviation Administration

Availability of Final Written Reevaluation and Record of Decision for the Proposed West Aircraft Maintenance Area at Los Angeles International Airport, Los Angeles, Los Angeles County, California

AGENCY: Federal Aviation Administration, Department of Transportation (DOT).

ACTION: Notice of Availability of Final Written Reevaluation and Record of Decision.

SUMMARY: The Federal Aviation Administration (FAA) is issuing this notice to advise the public of the availability of the Final Written Reevaluation and Record of Decision for a minor adjustment to a project evaluated in FAA's 2005 Final Environmental Impact Statement (FEIS) for the LAX Master Plan is available for public inspection. The Final Written Reevaluation and Record of Decision was prepared for the construction and operation of the proposed West Aircraft Maintenance Area (WAMA) west of Taxiway AA in the southwest quadrant of Los Angeles International Airport, Los Angeles, California. FAA is making the Final Written Reevaluation and Record of Decision available for public inspection.

FOR FURTHER INFORMATION CONTACT: David B. Kessler, AICP, Regional Environmental Protection Specialist, AWP-610.1, Airports Division, Federal Aviation Administration, Western-Pacific Region, P.O. Box 92007, Los Angeles, California 90009-2007, Telephone: 310/725-3615.

SUPPLEMENTARY INFORMATION: In December 2004, the Los Angeles City Council approved the Master Plan for Los Angeles International Airport (LAX). From this Master Plan, the City of Los Angeles, through its Airport Department—Los Angeles World Airports (LAWA), prepared an Airport Layout Plan (ALP). The ALP depicts the existing and planned future locations of runways, taxiways, aircraft parking aprons, terminal buildings and other associated facilities on the airport. At the time the ALP was prepared, the LAWA's and Federal Aviation Administration's (FAA) focus was on airfield safety to reduce runway incursions. A minor component of the Master Plan included aircraft maintenance. The ALP depicts various existing hangar buildings to be demolished and aircraft maintenance to be consolidated into the southwest quadrant of the airport on the east side of a north/south taxiway called “Taxiway AA.”

LAWA proposes to adjust its LAX ALP to depict the proposed West Aircraft Maintenance Area (WAMA) on the west side of Taxiway AA rather than the east side as originally proposed in the 2005 Final EIS. In May 2014, the FAA prepared a Draft Written Reevaluation for a minor adjustment to a project evaluated in its 2005 Final Environmental Impact Statement (EIS) for the LAX Master Plan pursuant to the National Environmental Policy Act of 1969.

FAA made the Draft Written Reevaluation available to the public and governmental agencies for review and comment from April 25 through May 30, 2014. FAA did not receive any comments on the Draft Written Reevaluation.

Copies of the Final Written Reevaluation and Record of Decision are available for public inspection at the following locations during normal business hours:

U.S. Department of Transportation, Federal Aviation Administration, Western-Pacific Region, Office of the Airports Division, 15000 Aviation Boulevard, Hawthorne, California 90261.

The document is also available for public inspection at the following libraries and at the following Web site: http://www.faa.gov/airports/western_pacific/environmental/.

Westchester-Loyola Village Branch Library—7114 W. Manchester Ave., Los Angeles, CA 90045.

El Segundo Library—111 W. Mariposa Ave., El Segundo, CA 90245.

Inglewood Library—101 W. Manchester Blvd., Inglewood, CA 90301.

Culver City Library—4975 Overland Ave., Culver City, CA 90230.

Issued in Hawthorne, California, on July 8, 2014.
Mia Paredes Ratcliff,
Acting Manager, Airports Division, Western—Pacific Region, AWP-600.

[FR Doc. 2014-16730 Filed 7-15-14; 8:45 am]

BILLING CODE 4910-13-P